DEPARTMENT OF AGRICULTURE

Food Safety and Inspection Service

[Docket No. FSIS-2010-0030]

National Advisory Committee on Meat and Poultry Inspection

AGENCY: Food Safety and Inspection Service, USDA.

ACTION: Notice of public meeting.

SUMMARY: The Food Safety and Inspection Service (FSIS) is announcing, pursuant to the Federal Advisory Committee Act, 5 U.S.C. App. 2, that the National Advisory Committee on Meat and Poultry Inspection (NACMPI) will hold a public meeting on September 29-30, 2010, to review and discuss issues relating to data analysis, collection, and transparency, and pre-harvest controls.

All issues will be presented to the full Committee. The Committee will then divide into subcommittees to discuss the issues. The subcommittees will provide a report of their comments and recommendations to the full Committee before the meeting concludes on September 30, 2010.

DATES: The Committee will hold a public meeting on Wednesday, September 29, 2010, from 12:30 p.m. to 5 p.m., and Thursday, September 30, 2010, from 9 a.m. to 3:30 p.m. The subcommittees will hold open meetings during their deliberations and report preparation.

ADDRESSES: The meeting will take place at the South Building Cafeteria, U.S. Department of Agriculture (USDA), 14th & Independence Avenue, SW., Washington, DC 20250. Non-USDA employees must enter through wing 2, located on 12th and C Street, SW. More information is available on the Internet at the NACMPI Web site, http://www.fsis.usda.gov/about_fsis/nacmpi/index.asp.

FSIS welcomes comments by October 18, 2010 on the topics discussed at the NACMPI public meeting. Comments may be submitted by any of the following methods:

• Electronic mail: NACMPI@fsis.usda.gov.

• Mail, including floppy disks or CD-ROMs: Send to National Advisory Committee on Meat and Poultry Inspection, USDA, FSIS, 14th & Independence Avenue, SW., Room 1180, South Building, Washington, DC 20250.

• Hand- or courier-delivered items: Deliver to Tiffanie Newman at 14th & Independence Avenue, SW., Room 1180, South Building, Washington, DC. To deliver these items, the building security guard must first call (202) 720-9113.

• Facsimile: Send to Tiffanie Newman, (202) 720-5704. All submissions received must include the Agency name and docket number FSIS-2010-0030.

FOR FURTHER INFORMATION CONTACT: Contact Josh Stull for information on the content of the meeting at (202) 720-9113, or e-mail josh.stull@fsis.usda.gov, and Tiffanie Newman for general meeting and logistical information at (202) 720-9113 or e-mail tiffanie.newman@fsis.usda.gov.

SUPPLEMENTARY INFORMATION:

Background

The NACMPI provides advice and recommendations to the Secretary of Agriculture pertaining to the Federal and State meat and poultry inspection programs, pursuant to sections 7(c), 24, 205, 301(a)(3), 301(a)(4), and 301(c) of the Federal Meat Inspection Act (21 U.S.C. 607(c), 624, 645, 661(a)(3), 661(a)(4), and 661(c)) and sections 5(a)(3), 5(a)(4), 5(c), 8(b), and 11(e) of the Poultry Products Inspection Act (21 U.S.C. 454(a)(3), 454(a)(4), 454(c), 457(b), and 460(e)).

The Administrator of FSIS is the chairperson of the Committee. Membership of the Committee is drawn from representatives of consumer groups; producers, processors, and marketers from the meat, poultry and egg product industries; State and local government officials; and academia. The current members of the NACMPI are: Patricia K. Buck, Center for Foodborne Illness Research and Prevention; Dr. Fur-Chi Chen, Tennessee State University; Brian R. Covington, Keystone Foods LLC; Dr. Catherine N. Cutter, Pennsylvania State University; Nancy J. Donley, Safe Tables Our Priority; Veneranda Gapud, private individual; Dr. Craig Henry, Deloitte & Touche LLP; Dr. Cheryl D. Jones, Morehouse School of Medicine; Dr. Heidi Kassenborg, Minnesota Department of Agriculture; Sarah A. Klein, Center for Science in the Public Interest; Dr. Shelton E. Murinda, California State Polytechnic University; Dr. Edna Negrón, University of Puerto Rico; Robert G. Reinhard, Sara Lee Corporation; Dr. Craig E. Shultz, Pennsylvania Department of Agriculture; Dr. Stanley A. Stromberg, Oklahoma Department of Agriculture, Food, and Forestry; Dr. John D. Tilden, Michigan Department of Agriculture; Carol L. Tucker-Foreman, Consumer Federation of America; Steve E. Warshawer, Mesa Top Farm; Dr. J. Byron Williams, Mississippi State University; and Leonard W. Winchester, Public Health—Seattle & King County.

All interested parties are welcome to attend the meeting and to submit written comments and suggestions concerning issues the Committee will review and discuss. The meeting agenda and topics to be discussed will be posted on FSIS's NACMPI Web site, http://www.fsis.usda.gov/about_fsis/nacmpi/index.asp.

The comments and the official transcript of the meeting, when they become available, will be kept in the FSIS Docket Room, USDA, FSIS, Room 2-2175, George Washington Carver Center, 5601 Sunnyside Avenue, Beltsville, MD 20705, Mailstop 5272, and posted on the Agency's NACMPI Web site.

Members of the public are encouraged to pre-register for the meeting by visiting the FSIS Web site: http://www.fsis.usda.gov.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations/2010_Notices_Index/.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/.

Options range from recalls, export information, regulations, directives, and notices. Customers can add or delete subscriptions themselves, and have the option to password protect their accounts.

Done at Washington, DC, on September 14, 2010.
Alfred V. Almanza,
Administrator.

[FR Doc. 2010-23255 Filed 9-14-10; 4:15 pm]

BILLING CODE 3410-DM-P